DEPARTMENT OF THE INTERIOR

Fish and Wildlife Service

Notice of Receipt of Applications for Permit

The following applicants have applied for a permit to conduct certain activities with endangered species. This notice is provided pursuant to Section 10(c) of the Endangered Species Act of 1973, as amended (16 U.S.C. 1531, et seq.):

Applicant: Harold L. Lyon Arboretum, University of Hawaii at Manoa, HI, PRT-021337.

The applicant requests a permit to export 500 seeds of Achyranthes splendens var. rotundata to Dr. Massimo Marcone, University of Guelph, Ontario, Canada. These seeds were artificially propagated at the Honolulu Botanical Garden Koko Crater site on Oahu. The export would be for scientific research purposes.

Applicant: Yukon E. Grubaugh, Anchorage, AK, PRT-021874.

The applicant requests a permit to import the sport-hunted trophy of one male bontebok (Damaliscus pygargus dorcas). Culled from a captive herd maintained under the management program of the Republic of South Africa, for the purpose of enhancement of the survival of the species.

Written data or comments should be submitted to the Director, U.S. Fish and Wildlife Service, Office of Management Authority, 4401 North Fairfax Drive, Room 700, Arlington, Virginia 22203 and must be received by the Director within 30 days of the date of the date of this publication.

The public is invited to comment on the following application(s) for a permit to conduct certain activities with marine mammals. The application(s) was submitted to satisfy requirements of the Marine Mammal Protection Act of 1972, as amended (16 U.S.C. 1361 et seq.) and the regulations governing marine mammals (50 CFR 18).

Applicant: Zachary Sharp, University of New Mexico, Albuquerque, NM, PRT-021423.

Permit Type: Import for scientific research.

Name and Number of Animals: Atlantic walrus (Odobenus rosmarus rosmarus), 1 cross-section of canine tooth from each of 12 animals.

Summary of Activity to be Authorized: The applicant requests a permit to import cross-sections of canine teeth for the purpose of scientific research for a preliminary analysis to determine if tooth cementum shows significant variations in stable isotopes of carbon, nitrogen, and lead.

Source of Marine Mammals: Animals were taken as part of Canadian Inuit subsistence hunts from eastern Hudson Bay, Canada, in 1990-92.

Period of Activity: Up to 5 years, if issued.

Concurrent with the publication of this notice in the Federal Register, the Office of Management Authority is forwarding copies of these applications to the Marine Mammal Commission and the Committee of Scientific Advisors for their review.

Written data, comments or requests for copies of these complete applications or requests for a public hearing on these applications should be sent to the U.S. Fish and Wildlife Service, Office of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

Documents and other information submitted with the application are available for review, subject to the requirements of the Privacy Act and Freedom of Information Act, by any party who submits a written request for a copy of such documents to the above address within 30 days of the date of publication of this notice.

Dated: January 17, 2000.
Kristen Nelson,
Chief, Branch of Permits, Office of Management Authority.

[FR Doc. 00-1488 Filed 1-20-00; 8:45 am]

BILLING CODE 4310-55-P